INTERNATIONAL TRADE COMMISSION

[Investigation Nos. 701-TA-462 and 731-TA-1156-1158 (First Review) and 731-TA-1043-1045 (Second Review)]

Polyethylene Retail Carrier Bags From China, Indonesia, Malaysia, Taiwan, Thailand, and Vietnam; Determinations

On the basis of the record ¹ developed in the subject five-year reviews, the United States International Trade Commission (“Commission”) determines, pursuant to the Tariff Act of 1930, that revocation of the countervailing duty order on polyethylene retail carrier bags from Vietnam and revocation of the antidumping duty orders on polyethylene retail carrier bags from China, Indonesia, Malaysia, Taiwan, Thailand, and Vietnam would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on April 1, 2015 (80 FR 17490) and determined on July 6, 2015 that it would conduct full reviews (80 FR 43118, July 21, 2015). Notice of the scheduling of the Commission's reviews and of a public hearing to be held in connection therewith was given by posting copies of the notice in the Office of the Secretary, U.S. International Trade Commission, Washington, DC, and by publishing the notice in the Federal Register on October 15, 2015 (80 FR 62110). The hearing was held in Washington, DC, on February 18, 2016, and all persons who requested the opportunity were permitted to appear in person or by counsel.

The Commission made these determinations pursuant to section 751(c) of the Tariff Act of 1930 (19 U.S.C. 1675(c)). It completed and filed its determinations in these reviews on April 18, 2016. The views of the Commission are contained in USITC Publication 4605 (April 2016), entitled Polyethylene Retail Carrier Bags from China, Indonesia, Malaysia, Taiwan, Thailand, and Vietnam: Investigation Nos. 701-TA-462 and 731-TA-1156-1158 (First Review) and 731-TA-1043-1045 (Second Review).

By order of the Commission.
Issued: April 18, 2016.
Lisa R. Barton,
Secretary to the Commission.

[FR Doc. 2016-09338 Filed 4-21-16; 8:45 am]

BILLING CODE 7020-02-P